DEPARTMENT OF HOMELAND SECURITY

U.S. Citizenship and Immigration Services

[CIS No. 2550-14; DHS Docket No. USCIS-2007-0028]

RIN 1615-ZB36

Extension of the Designation of El Salvador for Temporary Protected Status

AGENCY: U.S. Citizenship and Immigration Services, Department of Homeland Security.

ACTION: Notice.

SUMMARY: Through this Notice, the Department of Homeland Security (DHS) announces that the Secretary of Homeland Security (Secretary) is extending the designation of El Salvador for Temporary Protected Status (TPS) for 18 months from March 10, 2015, through September 9, 2016.

The extension allows currently eligible TPS beneficiaries to retain TPS through September 9, 2016, so long as they otherwise continue to meet the eligibility requirements for TPS. The Secretary has determined that an extension is warranted because the conditions in El Salvador that prompted the TPS designation continue to be met. There continues to be a substantial, but temporary, disruption of living conditions in El Salvador resulting from a series of earthquakes in 2001, and El Salvador remains unable, temporarily, to handle adequately the return of its nationals.

Through this Notice, DHS also sets forth procedures necessary for nationals of El Salvador (or aliens having no nationality who last habitually resided in El Salvador) to re-register for TPS and to apply for renewal of their Employment Authorization Documents (EADs) with U.S. Citizenship and Immigration Services (USCIS). Re-registration is limited to persons who have previously registered for TPS under the designation of El Salvador and whose applications have been granted. Certain nationals of El Salvador (or aliens having no nationality who last habitually resided in El Salvador) who have not previously applied for TPS may be eligible to apply under the late initial registration provisions, if they meet: (1) At least one of the late initial filing criteria; and, (2) all TPS eligibility criteria (including continuous residence in the United States since February 13, 2001, and continuous physical presence in the United States since March 9, 2001).

For individuals who have already been granted TPS under the El Salvador designation, the 60-day re-registration period runs from January 7, 2015 through March 9, 2015. USCIS will issue new EADs with a September 9, 2016 expiration date to eligible El Salvador TPS beneficiaries who timely re-register and apply for EADs under this extension. Given the timeframes involved with processing TPS re-registration applications, DHS recognizes that not all re-registrants will receive new EADs before their current EADs expire on March 9, 2015. Accordingly, through this Notice, DHS automatically extends the validity of EADs issued under the TPS designation of El Salvador for 6 months, through September 9, 2015, and explains how TPS beneficiaries and their employers may determine which EADs are automatically extended and their impact on Employment Eligibility Verification (Form I-9) and the E-Verify processes.

DATES: The 18-month extension of the TPS designation of El Salvador is effective March 10, 2015, and will remain in effect through September 9, 2016. The 60-day re-registration period runs from January 7, 2015 through March 9, 2015March 9, 2015. (Note: It is important for re-registrants to timely re-register during this 60-day re-registration period and not to wait until their EADs expire.)

FOR FURTHER INFORMATION CONTACT: • For further information on TPS, including guidance on the application process and additional information on eligibility, please visit the USCIS TPS Web page at http://www.uscis.gov/tps. You can find specific information about this extension of El Salvador for TPS by selecting “TPS Designated Country: El Salvador” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquires.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

DOS—Department of State

EAD—Employment Authorization Document

FNC—Final Nonconfirmation

Government—U.S. Government

IJ—Immigration Judge

INA—Immigration and Nationality Act

OSC—U.S. Department of Justice, Office of Special Counsel for Immigration-Related Unfair Employment Practices

SAVE—USCIS Systematic Alien Verification for Entitlements Program

Secretary—Secretary of Homeland Security

TNC—Tentative Nonconfirmation

TPS—Temporary Protected Status

TTY—Text Telephone

USCIS—U.S. Citizenship and Immigration Services

What is Temporary Protected Status (TPS)?

• TPS is a temporary immigration status granted to eligible nationals of a country designated for TPS under the Immigration and Nationality Act (INA), or to persons without nationality who last habitually resided in the designated country.

• During the TPS designation period, TPS beneficiaries are eligible to remain in the United States, may not be removed, and are authorized to work and obtain EADs, so long as they continue to meet the requirements of TPS.

• TPS beneficiaries may also be granted travel authorization as a matter of discretion.

• The granting of TPS does not result in or lead to permanent resident status.

• When the Secretary terminates a country's TPS designation through a separate Federal Register notice, beneficiaries return to the same immigration status they maintained before TPS, if any (unless that status has since expired or been terminated), or to any other lawfully obtained immigration status they received while registered for TPS.

When was El Salvador designated for TPS?

On March 9, 2001, the Attorney General designated El Salvador for TPS based on an environmental disaster within that country, specifically the devastation resulting from a series of earthquakes that occurred in 2001. See Designation of El Salvador Under Temporary Protected Status, 66 FR 14214 (Mar. 9, 2001). The Secretary last announced an extension of TPS for El Salvador on May 30, 2013, based on her determination that the conditions warranting the designation continued to be met. See Extension of the Designation of El Salvador for Temporary Protected Status, 78 FR 32418 (May 30, 2013). This announcement is the tenth extension of TPS for El Salvador since the original designation in 2001.

What authority does the Secretary of Homeland Security have to extend the designation of El Salvador for TPS?

Section 244(b)(1) of the INA, 8 U.S.C. 1254a(b)(1), authorizes the Secretary, after consultation with appropriate U.S. Government agencies, to designate a foreign state (or part thereof) for TPS if the Secretary finds that certain country conditions exist.¹ The Secretary may then grant TPS to eligible nationals of that foreign state (or aliens having no nationality who last habitually resided in that state). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12, or 18 months. See section 244(b)(3)(C) of the INA, 8 U.S.C. 1254a(b)(3)(C). If the Secretary determines that the foreign state no longer meets the conditions for TPS designation, the Secretary must terminate the designation. See INA section 244(b)(3)(B), 8 U.S.C. 1254a(b)(3)(B).

Why is the Secretary extending the TPS designation for El Salvador through September 9, 2016?

Over the past year, DHS and the Department of State (DOS) have continued to review conditions in El Salvador. Based on this review and after consulting with DOS, the Secretary has determined that an 18-month extension is warranted because the disruption in living conditions in affected areas of El Salvador resulting from the environmental disaster that prompted the March 9, 2001 designation persists.

El Salvador was originally designated for Temporary Protected Status following a series of major earthquakes and aftershocks in early 2001. The first, on January 13, registered at 7.6 in magnitude on the standard seismic scale; the second, on February 13, measured 6.6 in magnitude. Together they killed over 1,000 people, caused approximately 8,000 injuries, and affected approximately 1.5 million people. Of 262 municipalities in El Salvador, 165 suffered serious damage in the first quake, while the second quake hit the departments of La Paz, San Vicente, and Cuscatlán the hardest. The earthquakes caused significant damage to homes, hospitals, schools, and transportation systems.

The 2001 earthquakes damaged or destroyed 276,594 housing units. A 2012 study by the El Salvador Ministry of Economy indicated the national housing deficit was at 446,000, a profound deficit for a country of 6.1 million people. This shortage would be exacerbated by the return of thousands of Salvadoran nationals currently residing in the United States under TPS.

The National Water Institution estimated that 40 to 50 percent of the Salvadoran population lacked potable water access due to damages to the water and electrical systems in the aftermath of the 2001 earthquakes. Over 10 percent of El Salvador's total population, mostly in rural areas, still lacks access to drinking water. Water contamination and scarcity are of particular concern in the San Salvador metropolitan area, threatening human health and productivity, as well as generating social conflict. According to the El Salvador Ministry of Environment, only 5 percent of El Salvador's surface water is considered treatable for drinking purposes. El Salvador's 59 principal wetland areas have been degraded and polluted by solid waste, untreated waste water, agrochemicals, and unsustainable resource extraction practices. According to El Salvador's public water utility, over 278 million cubic meters of wastewater are produced annually.

Subsequent environmental disasters since the 2001 earthquakes have caused significant damage to infrastructure, disrupting recovery efforts. In 2005, tropical storm Stan caused widespread flooding, landslides, and destruction of homes and crops throughout the country. A series of earthquakes in western El Salvador in 2006 resulted in the temporary displacement of 2,000 families. Storms in 2009 (Ida) and 2010 (Agatha) killed over 200 people, left 78 people unaccounted for, damaged over 1,500 houses, and affected 120,000 Salvadorans. Severe infrastructural damage amounted to $343 million, of which more than half was related to roadways and bridges. In October 2011, tropical depression 12-E brought 10 days of heavy rain to El Salvador. The storm caused an estimated $840 million in damage, flooding 20,000 homes, damaging 18 roads and 21 bridges, and resulting in heavy agricultural losses. These three storms caused an estimated $1.3 billion in damage, a figure equal to 5 percent of the country's total 2012 gross domestic product. In June 2013, Tropical Storm Barry caused flooding in El Salvador, and in December 2013, the eruption of the Chaparrastique volcano located in eastern El Salvador forced thousands of people within a 2-mile radius to evacuate their homes. These environmental disasters, as well as others not detailed herein, have caused substantial setbacks to infrastructure recovery and development since the 2001 earthquakes.

El Salvador is currently experiencing the effects of a severe regional drought that is impacting food security. In August 2014, the Famine Early Warning Systems Network reported that rainfall deficits in eastern areas of El Salvador began in late June 2014, and rainfall accumulation in the affected areas is 50 to 75 percent below average. The Famine Early Warning Systems Network has also stated that “[t]his dryness is the worst in 10 years, including the El Niño year of 2009,” and “. . . losses incurred by subsistence farmers located in the worst-affected areas are expected to exceed 70 percent.” In addition to the effects of the drought, a leaf rust epidemic has affected 74 percent of coffee plants in El Salvador, causing a loss of millions of dollars in coffee production, as well as the loss of over 300,000 jobs in that sector.

Economic losses from the earthquakes were reported to be as high as $2.6 billion, almost 15 percent of El Salvador's gross domestic product. El Salvador's economy continues to experience significant challenges. Most analysts expect El Salvador's gross domestic product to grow 1.6 to 1.8 percent in 2014, approximately half the rate of its regional neighbors. According to a 2013 Social Panorama of Latin America Report issued by the European Commission for Latin America and the Caribbean, almost half of all Salvadorans (45.3 percent) live in poverty. It is estimated that over a third of the country's workforce is underemployed or not able to find full-time work. In light of the highly problematic economic situation, a large influx of returning citizens at this time would overwhelm the labor market and the government's fiscal ability to extend basic services to its citizens.

Based upon this review and after consultation with appropriate Government agencies, the Secretary finds that:

• The conditions that prompted the March 9, 2001 designation of El Salvador for TPS continue to be met. See INA sections 244(b)(1)(B), (b)(3)(A) and (C), 8 U.S.C. 1254a(b)(1)(B), (b)(3)(A) and (C).

• There continues to be a substantial, but temporary, disruption in living conditions in El Salvador as a result of an environmental disaster. See INA section 244(b)(1)(B)(i), 8 U.S.C. 1254a(b)(1)(B)(i).

• El Salvador continues to be unable, temporarily, to handle adequately the return of its nationals (or aliens having no nationality who last habitually resided in El Salvador). See INA section 244(b)(1)(B)(ii), 8 U.S.C. 1254a(b)(1)(B)(ii).

• The designation of El Salvador for TPS should be extended for an additional 18-month period from March 10, 2015 through September 9, 2016. See INA section 244(b)(3)(C), 8 U.S.C. 1254a(b)(3)(C).

• There are approximately 204,000 current El Salvador TPS beneficiaries who are expected to file for re-registration and may be eligible to retain their TPS under the extension.

Notice of Extension of the TPS Designation of El Salvador

By the authority vested in me as Secretary under INA section 244, 8 U.S.C. 1254a, I have determined, after consultation with the appropriate Government agencies, that the conditions that prompted the designation of El Salvador for TPS in 2001 continue to be met. See INA section 244(b)(3)(A), 8 U.S.C. 1254a(b)(3)(A). On the basis of this determination, I am extending the designation of El Salvador for TPS for 18 months from March 10, 2015, through September 9, 2016. See INA sections 244(b)(2) and (b)(3), 8 U.S.C. 1254a(b)(2) and (b)(3).

Jeh Charles Johnson,
Secretary.

Required Application Forms and Application Fees To Register or Re-register for TPS

To register or re-register for TPS based on the designation of El Salvador, an applicant must submit each of the following two applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17. and

2. Application for Employment Authorization (Form I-765).

• If you are applying for late initial registration and want an EAD, you must pay the fee for the Application for Employment Authorization (Form I-765) only if you are age 14 through 65. No fee for the Application for Employment Authorization (Form I-765) is required if you are under the age of 14 or are 66 and older and applying for late initial registration.

• If you are applying for re-registration, you must pay the fee for the Application for Employment Authorization (Form I-765) only if you want an EAD, regardless of age.

• You do not pay the fee for the Application for Employment Authorization (Form I-765) if you are not requesting an EAD, regardless of whether you are applying for late initial registration or re-registration.

You must submit both completed application forms together. If you are unable to pay for the Application for Employment Authorization (Form I-765) and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Re-filing a Re-registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible. If you choose to do this, you would file the Application for Temporary Protected Status (Form I-821) with the fee and the Application for Employment Authorization (Form I-765) without the fee and without requesting an EAD.

Mailing Information

Mail your application for TPS to the proper address in Table 1.

Table 1—Mailing Addresses
If . . . | Mail to . . .
Are applying for re-registration and you live in the following states/territories: | U.S. Postal Service: U.S. Citizenship and Immigration Services, Attn: TPS El Salvador, P.O. Box 8635, Chicago, IL 60680-8635.
Connecticut, Delaware, Florida, Georgia, Illinois, Indiana, Kentucky, Maine, Maryland, Massachusetts, Michigan, New Hampshire, New Jersey, North Carolina, Ohio, Pennsylvania, Rhode Island, South Carolina, Vermont, Virginia, Washington DC, West Virginia | Non-U.S. Postal Delivery Service: U.S. Citizenship and Immigration Services, Attn: TPS El Salvador, 131 S. Dearborn—3rd Floor, Chicago, IL 60603-5517.
Are applying for re-registration and you live in the following states/territories: | U.S. Postal Service: U.S. Citizenship and Immigration Services, Attn: TPS El Salvador, P.O. Box 660864, Dallas, TX 75266.
Alabama, Alaska, American Samoa, Arkansas, Colorado, Guam, Hawaii, Idaho, Iowa, Kansas, Louisiana, Minnesota, Mississippi, Missouri, Montana, Nebraska, New Mexico, New York, North Dakota, Northern Mariana Islands, Oklahoma, Puerto Rico, South Dakota, Tennessee, Texas, Utah, Virgin Islands, Wisconsin, Wyoming | Non-U.S. Postal Delivery Service: U.S. Citizenship and Immigration Services, Attn: TPS El Salvador, 2501 S. State Highway, 121 Business Suite 400, Lewisville, TX 75067.
Are applying for re-registration and you live in the following states: | U.S. Postal Service: U.S. Citizenship and Immigration Services, Attn: TPS El Salvador, P.O. Box 21800, Phoenix, AZ 85036.
Arizona, California, Nevada, Oregon, Washington | Non-U.S. Postal Delivery Service: U.S. Citizenship and Immigration Services, Attn: TPS El Salvador, 1820 E. Skyharbor Circle S, Suite 100, Phoenix, AZ 85034.
Are applying for the first time as a late initial registration (this is for all states/territories) | U.S. Postal Service: U.S. Citizenship and Immigration Services, Attn: TPS El Salvador, P.O. Box 8635, Chicago, IL 60680-8635, Non-US Postal Delivery Service: U.S. Citizenship and Immigration Services, Attn: TPS El Salvador, 131 S. Dearborn—3rd Floor, Chicago, IL 60603-5517.

If you were granted TPS by an Immigration Judge (IJ) or the Board of Immigration Appeals (BIA), and you wish to request an EAD, or are re-registering for the first time following a grant of TPS by an IJ or the BIA, please mail your application to the appropriate address in Table 1. Upon receiving a Notice of Action (Form I-797) from USCIS, please send an email to the appropriate USCIS Service Center handling your application providing the receipt number and stating that you submitted a re-registration and/or request for an EAD based on an IJ/BIA grant of TPS. Upon receiving a Notice of Action (Form I-797) from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

If you are re-registering for TPS during the re-registration period and you do not need to submit any supporting documents or evidence, you are eligible to file your applications electronically. For more information on e-filing, please visit http://www.uscis.gov/e-filing.

Employment Authorization Document (EAD)

May I request an interim EAD at my local USCIS office?

No. USCIS will not issue interim EADs to TPS applicants and re-registrants at local offices.

Am I eligible to receive an automatic 6-month extension of my current EAD through September 9, 2015?

Provided that you currently have TPS under the designation of El Salvador, this Notice automatically extends your EAD by 6 months if you:

• Are a national of El Salvador (or an alien having no nationality who last habitually resided in El Salvador);

• Received an EAD under the last extension of TPS for El Salvador; and

• Have an EAD with a marked expiration date of March 9, 2015, bearing the notation “A-12” or “C-19” on the face of the card under “Category.”

Although this Notice automatically extends your EAD through September 9, 2015, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization) or one document from List B (reflecting identity) together with one document from List C (reflecting employment authorization). You may present an acceptable receipt for List A, List B, or List C documents as described in the Form I-9 Instructions. An EAD is an acceptable document under “List A.” Employers may not reject a document based on a future expiration date.

If your EAD has an expiration date of March 9, 2015, and states “A-12” or “C-19” under “Category,” it has been extended automatically for 6 months by virtue of this Federal Register Notice, and you may choose to present your EAD to your employer as proof of identity and employment authorization for Employment Eligibility Verification (Form I-9) through September 9, 2015, (see the subsection titled “How do my employer and I complete the Employment Eligibility Verification (Form I-9) using an automatically extended EAD for a new job?” for further information). To minimize confusion over this extension at the time of hire, you may also show your employer a copy of this Federal Register Notice confirming the automatic extension of employment authorization through September 9, 2015. As an alternative to presenting your automatically extended EAD, you may choose to present any other acceptable document from List A, or a combination of one selection from List B and one selection from List C.

What documentation may I show my employer if I am already employed but my current TPS-related EAD is set to expire?

Even though EADs with an expiration date of March 9, 2015, that state “A-12” or “C-19” under “Category” have been automatically extended for 6 months by this Federal Register Notice, your employer will need to ask you about your continued employment authorization once March 9, 2015 is reached to meet its responsibilities for Employment Eligibility Verification (Form I-9). However, your employer does not need a new document to reverify your employment authorization until September 9, 2015, the expiration date of the automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By September 9, 2015, the expiration date of the automatic extension, your employer must reverify your employment authorization. At that time, you must present any document from List A or any document from List C on Employment Eligibility Verification (Form I-9) to reverify employment authorization, or an acceptable List A or List C receipt described in the Form I-9 Instructions. Your employer should complete either Section 3 of the Employment Eligibility Verification (Form I-9) originally completed for the employee or, if this Section has already been completed or if the version of Employment Eligibility Verification (Form I-9) has expired (check the date in the upper right-hand corner of the form), complete Section 3 of a new Employment Eligibility Verification (Form I-9) using the most current version. Note that your employer may not specify which List A or List C document employees must present, and cannot reject an acceptable receipt.

Can my employer require that I produce any other documentation to prove my status, such as proof of my Salvadoran citizenship?

No. When completing Employment Eligibility Verification (Form I-9), including re-verifying employment authorization, employers must accept any documentation that appears on the “Lists of Acceptable Documents” for Employment Eligibility Verification (Form I-9) that reasonably appears to be genuine and that relates to you or an acceptable List A, List B, or List C receipt. Employers may not request documentation that does not appear on the “Lists of Acceptable Documents.” Therefore, employers may not request proof of Salvadoran citizenship when completing Employment Eligibility Verification (Form I-9) for new hires or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after September 9, 2015, for purposes of employment authorization?

After September 9, 2015, employers may no longer accept the EADs that this Federal Register Notice automatically extended. Before that time, however, USCIS will endeavor to issue new EADs to eligible TPS re-registrants who request them. These new EADs will have an expiration date of September 9, 2016, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to September 9, 2015, you and your employer should do the following:

1. For Section 1, you should:

a. Check “An alien authorized to work;”

b. Write your alien number (USCIS number or A-number) in the first space (your EAD or other document from DHS will have your USCIS number or A-number printed on it; the USCIS number is the same as your A-number without the A prefix); and

c. Write the automatically extended EAD expiration date (September 9, 2015) in the second space.

2. For Section 2, employers should record the:

a. Document title;

b. Document number; and

c. Automatically extended EAD expiration date (September 9, 2015).

By September 9, 2015, employers must reverify the employee's employment authorization in Section 3 of the Employment Eligibility Verification (Form I-9).

What corrections should my current employer and I make to Employment Eligibility Verification (Form I-9) if my EAD has been automatically extended?

If you are an existing employee who presented a TPS-related EAD that was valid when you first started your job, but that EAD has now been automatically extended, you and your employer should correct your previously completed Employment Eligibility Verification (Form I-9) as follows:

1. For Section 1, you should:

a. Draw a line through the expiration date in the second space;

b. Write “September 9, 2015” above the previous date;

c. Write “TPS Ext.” in the margin of Section 1; and

d. Initial and date the correction in the margin of Section 1.

2. For Section 2, employers should:

a. Draw a line through the expiration date written in Section 2;

b. Write “September 9, 2015” above the previous date;

c. Write “TPS Ext.” in the margin of Section 2; and

d. Initial and date the correction in the margin of Section 2.

By September 9, 2015, when the automatic extension of EADs expires, employers must reverify the employee's employment authorization in Section 3.

If I am an employer enrolled in E-Verify, what do I do when I receive a “Work Authorization Documents Expiration” alert for an automatically extended EAD?

If you are an employer who participates in E-Verify and you have an employee who is a TPS beneficiary who provided a TPS-related EAD when he or she first started working for you, you will receive a “Work Authorization Documents Expiring” case alert when this EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By September 9, 2015, employment authorization must be reverified in Section 3. Employers should never use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages. For questions about avoiding discrimination during the employment eligibility verification process, employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY 877-875-6028) or email at I-9Central@dhs.gov. Calls are accepted in English and many other languages. Employees or applicants may also call the U.S. Department of Justice, Office of Special Counsel for Immigration-Related Unfair Employment Practices (OSC) Worker Information Hotline at 800-255-7688 (TTY 800-237-2515) for information regarding employment discrimination based upon citizenship status, immigration status, or national origin, or for information regarding discrimination related to Employment Eligibility Verification (Form I-9) and E-Verify. The OSC Worker Information Hotline provides language interpretation in numerous languages.

To comply with the law, employers must accept any document or combination of documents from the Lists of Acceptable Documents if the documentation reasonably appears to be genuine and to relate to the employee, or an acceptable List A, List B, or List C receipt described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from federal or state government records.

Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). An employee that believes he or she was discriminated against by an employer in the E-Verify process based on citizenship or immigration status, or based on national origin, may contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary and/or show you are authorized to work based on TPS. Examples are:

(1) Your unexpired EAD that has been automatically extended, or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found at the SAVE Web site at http://www.uscis.gov/save, then by choosing “How to Correct Your Records” from the menu on the right.

[FR Doc. 2015-00031 Filed 1-6-15; 8:45 am]

BILLING CODE 9111-97-P